DEPARTMENT OF ENERGY

Federal Energy Regulatory Commission

Combined Notice of Filings #1

Take notice that the Commission received the following electric corporate filings:

Docket Numbers: EC12-110-000.

Applicants: California Ridge Wind Energy LLC.

Description: Application for Authorization under Section 203 of the Federal Power Act and Request for Waivers and Expedited Action of California Ridge Wind Energy LLC.

Filed Date: 6/12/12.

Accession Number: 20120612-5161.

Comments Due: 5 p.m. ET 7/3/12.

Take notice that the Commission received the following electric rate filings:

Docket Numbers: ER10-2763-002; ER10-2732-002; ER10-2733-002; ER10-2734-002; ER10-2736-002; ER10-2737-002; ER10-2741-002; ER10-2749-002; ER10-2752-002.

Applicants: Emera Energy Services Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy U.S. Subsidiary No. 1, Inc, Emera Energy U.S. Subsidiary No. 2, Inc., Bangor Hydro Electric Company.

Description: Change in Status Filing of Bangor Hydro Electric Company, et al.

Filed Date: 6/13/12.

Accession Number: 20120613-5023.

Comments Due: 5 p.m. ET 7/5/12.

Docket Numbers: ER12-1725-000; ER11-3859-004; ER11-3863-003; ER11-3861-003; ER11-3864-004; ER11-3866-004; ER12-192-002; ER11-3867-004; ER11-3857-004.

Applicants: ECP Energy I, LLC, Liberty Electric Power, LLC, Empire Generating Co, LLC, Dighton Power, LLC, EquiPower Resources Management, LLC, Lake Road Generating Company, L.P., MASSPOWER, Milford Power Company, LLC, Red Oak Power, LLC.

Description: Notice of Change in Status of the ECP MBR Sellers.

Filed Date: 6/5/12.

Accession Number: 20120605-5068.

Comments Due: 5 p.m. ET 6/26/12.

Docket Numbers: ER12-2001-000.

Applicants: PacifiCorp.

Description: OATT Section 46 and Attachment N to be effective 8/12/2012.

Filed Date: 6/12/12.

Accession Number: 20120612-5135.

Comments Due: 5 p.m. ET 7/3/12.

Docket Numbers: ER12-2002-000.

Applicants: PJM Interconnection, L.L.C.

Description: Queue Position T126; Original Service Agreement No. 3327 to be effective 5/11/2012.

Filed Date: 6/12/12.

Accession Number: 20120612-5144.

Comments Due: 5 p.m. ET 7/3/12.

Docket Numbers: ER12-2003-000.

Applicants: PJM Interconnection, L.L.C.

Description: Queue Position T127; Original Service Agreement No. 3328 to be effective 5/11/2012.

Filed Date: 6/12/12.

Accession Number: 20120612-5148.

Comments Due: 5 p.m. ET 7/3/12.

Docket Numbers: ER12-2004-000.

Applicants: Southern California Edison Company.

Description: GIA and Distribution Service Agmt PPD-SPVP 044-12 kV Dexus Project to be effective 6/1/2012.

Filed Date: 6/13/12.

Accession Number: 20120613-5014.

Comments Due: 5 p.m. ET 7/5/12.

Docket Numbers: ER12-2005-000.

Applicants: Michigan Electric Transmission Company.

Description: Notice of Termination of Michigan Electric Transmission Company, LLC.

Filed Date: 6/12/12.

Accession Number: 20120612-5160.

Comments Due: 5 p.m. ET 7/3/12.

Docket Numbers: ER12-2006-000.

Applicants: PJM Interconnection, L.L.C.

Description: Notice of Cancellation of Service Agreement 2950 in Docket No. ER11-3893-000 to be effective 5/11/2012.

Filed Date: 6/13/12.

Accession Number: 20120613-5038.

Comments Due: 5 p.m. ET 7/5/12.

Docket Numbers: ER12-2007-000.

Applicants: Algonquin Northern Maine Gen Co., Algonquin Tinker Gen Co., Algonquin Windsor Locks LLC, Algonquin Energy Services Inc.

Description: Notice of Change in Status to be effective 6/13/2012.

Filed Date: 6/13/12.

Accession Number: 20120613-5039.

Comments Due: 5 p.m. ET 7/5/12.

Docket Numbers: ER12-2008-000.

Applicants: Big Horn II Wind Project LLC.

Description: Tariff Revisions to be effective 6/14/2012.

Filed Date: 6/13/12.

Accession Number: 20120613-5040.

Comments Due: 5 p.m. ET 7/5/12.

Docket Numbers: ER12-2009-000.

Applicants: PJM Interconnection, L.L.C.

Description: Notice of Cancellation of Service Agreement No. 2951 in Docket No. ER11-3896-000 to be effective 5/21/2012.

Filed Date: 6/13/12.

Accession Number: 20120613-5041.

Comments Due: 5 p.m. ET 7/5/12.

Docket Numbers: ER12-2010-000.

Applicants: Fairpoint Energy, LLC.

Description: Market-Based Rate Tariff to be effective 5/21/2012.

Filed Date: 6/13/12.

Accession Number: 20120613-5042.

Comments Due: 5 p.m. ET 7/5/12.

Docket Numbers: ER12-2011-000.

Applicants: Blue Creek Wind Farm LLC.

Description: Tariff Revisions to be effective 6/14/2012.

Filed Date: 6/13/12.

Accession Number: 20120613-5047.

Comments Due: 5 p.m. ET 7/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2012.
Nathaniel J. Davis, Sr.,
Deputy Secretary.

[FR Doc. 2012-15135 Filed 6-20-12; 8:45 am]

BILLING CODE 6717-01-P